DEPARTMENT OF ENERGY

Federal Energy Regulatory Commission

[Docket No. OR19-37-000]

Phillip 66 Company v. SFPP, L.P.; Notice of Complaint

Take notice that September 27, 2019, pursuant to Rule 206 of the Rules of Practice and Procedure of the Federal Energy Regulatory Commission (Commission),¹ section 343.2 of the Procedural Rules Applicable to Oil Pipeline Proceedings,² and sections 1(5), 8, 9, 13, 15, and 16 of the Interstate Commerce Act (ICA),³ Phillip 66 Company (Complainant or Phillip 66) filed a complaint against SFPP, L.P. (Respondent or SFPP), challenging the justness and reasonableness of SFPP's West Line (Tariff No. 198.20.0), East Line (Tariff No. 197.13.0), North Line (Tariff No. 199.9.0), and Oregon Line (Tariff No. 200.12.0) index increases taken in 2018. Complainants allege that SFPP's rates for this transportation are unjust and unreasonable and request that the Commission investigate SFPP's rates, set the proceedings for an evidentiary hearing to determine the just and reasonable rates for SFPP's index rate increases, require SFPP to pay reparations and refunds to Phillips 66 and award such other relief as is necessary and appropriate under the ICA, all as more fully explained in the complaint.

¹ 18 CFR 385.206.

² 18 CFR 343.2

³ 49 U.S.C. App. 1(5), 8, 9, 13, 15 and 16 (1988).

Complainants certify that copies of the complaint were served on the contacts listed for Respondent on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on October 17, 2019.

Dated: October 9, 2019.
Nathaniel J. Davis, Sr.,
Deputy Secretary.

[FR Doc. 2019-22531 Filed 10-15-19; 8:45 am]

BILLING CODE 6717-01-P